SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: August 1-31, 2025.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.gov. Regular mail inquiries may be sent to the above address.

SUPPLEMENTARY INFORMATION: This notice lists the projects, described below, receiving approval for the consumptive use of water pursuant to the Commission's approval by rule process set forth in 18 CFR 806.22(f) for the time period specified above.

Approvals by Rule—Issued Under 18 CFR 806.22(f)

1. Coterra Energy Inc.; Pad ID: BlaisureJe P2; ABR-202508001; Dimock Township, Susquehanna County, Pa.; Consumptive Use of Up to 6.5000 mgd; Approval Date: August 14, 2025.

2. EQT ARO LLC; Pad ID: Hemlock Pad A; ABR-202508003; McNett Township, Lycoming County, Pa.; Consumptive Use of Up to 5.0000 mgd; Approval Date: August 14, 2025.

3. EQT ARO LLC; Pad ID: RBP; ABR-202508002; McNett Township, Lycoming County, Pa.; Consumptive Use of Up to 5.0000 mgd; Approval Date: August 14, 2025.

4. MODIFICATION—Coterra Energy Inc.; Pad ID: BennerJ P1; ABR-201903005.R1.1; Forest Lake Township, Susquehanna County, Pa.; Consumptive Use of Up to 6.5000 mgd; Approval Date: August 22, 2025.

5. MODIFICATION—Coterra Energy Inc.; Pad ID: LauerD P1; ABR-202203004.1; Springville Township, Susquehanna County, Pa.; Consumptive Use of Up to 6.5000 mgd; Approval Date: August 22, 2025.

6. MODIFICATION—Coterra Energy Inc.; Pad ID: PalkoJ P1; ABR-202309002.1; Lathrop Township, Susquehanna County, Pa.; Consumptive Use of Up to 6.5000 mgd; Approval Date: August 22, 2025.

7. MODIFICATION—Expand Operating LLC; Pad ID: Powers Pad Site; ABR-20090511.R3.1; Forest Lake Township, Susquehanna County, Pa.; Consumptive Use of Up to 7.5000 mgd; Approval Date: August 22, 2025.

8. RENEWAL—BKV Operating, LLC; Pad ID: Sickler 5H; ABR-20100679.R3; Washington Township, Wyoming County, Pa.; Consumptive Use of Up to 5.0000 mgd; Approval Date: August 22, 2025.

9. RENEWAL—EQT ARO LLC; Pad ID: COP Tr 728 Pad A; ABR-20100631.R3; Watson Township, Lycoming County, Pa.; Consumptive Use of Up to 4.0000 mgd; Approval Date: August 22, 2025.

10. RENEWAL—Expand Operating LLC; Pad ID: Lattimer; ABR-201008038.R3; Litchfield Township, Bradford County, Pa.; Consumptive Use of Up to 7.5000 mgd; Approval Date: August 22, 2025.

11. RENEWAL—S.T.L. Resources, LLC; Pad ID: Coon Hollow 904; ABR-20100560.R3; West Branch Township, Potter County, Pa.; Consumptive Use of Up to 4.9900 mgd; Approval Date: August 22, 2025.

12. RENEWAL—XPR Resources LLC; Pad ID: Alder Run Land LP #2H; ABR-20100454.R3; Cooper Township, Clearfield County, Pa.; Consumptive Use of Up to 4.0000 mgd; Approval Date: August 22, 2025.

13. RENEWAL—XTO Energy Inc.; Pad ID: Brown 8519H; ABR-20100604.R3; Moreland Township, Lycoming County, Pa.; Consumptive Use of Up to 4.0000 mgd; Approval Date: August 22, 2025.

14. RENEWAL—XTO Energy Inc.; Pad ID: Moser 8521H; ABR-20100641.R3; Franklin Township, Lycoming County, Pa.; Consumptive Use of Up to 4.0000 mgd; Approval Date: August 22, 2025.

15. RENEWAL—XTO Energy Inc.; Pad ID: Tome 8522H; ABR-20100556.R3; Moreland Township, Lycoming County, Pa.; Consumptive Use of Up to 4.0000 mgd; Approval Date: August 22, 2025.

16. Beech Resources, LLC; Pad ID: Echo Pad; ABR-202508004; Anthony Township, Lycoming County, Pa.; Consumptive Use of Up to 4.0000 mgd; Approval Date: August 28, 2025.

17. RENEWAL—Expand Operating LLC; Pad ID: Dave; ABR-201008107.R3; Albany Township, Bradford County, Pa.; Consumptive Use of Up to 7.5000 mgd; Approval Date: August 28, 2025.

18. RENEWAL—Repsol Oil & Gas USA, LLC; Pad ID: FEUSNER (03 053) J; ABR-201006100.R3; Columbia Township, Bradford County, Pa.; Consumptive Use of Up to 6.0000 mgd; Approval Date: August 28, 2025.

19. RENEWAL—Repsol Oil & Gas USA, LLC; Pad ID: LYON (01 078) S; ABR-20100696.R3; Troy Township, Bradford County, Pa.; Consumptive Use of Up to 6.0000 mgd; Approval Date: August 28, 2025.

20. RENEWAL—Repsol Oil & Gas USA, LLC; Pad ID: ROY (03 040) B; ABR-20100650.R3; Wells Township, Bradford County, Pa.; Consumptive Use of Up to 6.0000 mgd; Approval Date: August 28, 2025.

21. RENEWAL—Repsol Oil & Gas USA, LLC; Pad ID: ROY (03 046) B; ABR-20100629.R3; Wells Township, Bradford County, Pa.; Consumptive Use of Up to 6.0000 mgd; Approval Date: August 28, 2025.

22. RENEWAL—S.T.L. Resources, LLC; Pad ID: Pierson 810; ABR-20100633.R3; Elk and Gaines Townships, Tioga County, Pa.; Consumptive Use of Up to 4.9900 mgd; Approval Date: August 28, 2025.

23. RENEWAL—XTO Energy Inc.; Pad ID: Everbe Farms 8518H; ABR-20100533.R3; Franklin and Penn Townships, Lycoming County, Pa.; Consumptive Use of Up to 4.0000 mgd; Approval Date: August 28, 2025.

24. RENEWAL—EXCO Resources (PA), LLC; Pad ID: Confer (Pad 32); ABR-20100669.R3; Burnside Township, Centre County, Pa.; Consumptive Use of Up to 3.0000 mgd; Approval Date: August 29, 2025.

25. RENEWAL—Expand Operating LLC; Pad ID: Bedford; ABR-201008139.R3; Elkland Township, Sullivan County, Pa.; Consumptive Use of Up to 7.5000 mgd; Approval Date: August 29, 2025.

26. RENEWAL—Expand Operating LLC; Pad ID: Benspond; ABR-201008146.R3; Elkland Township, Sullivan County, Pa.; Consumptive Use of Up to 7.5000 mgd; Approval Date: August 29, 2025.

27. RENEWAL—Expand Operating LLC; Pad ID: Fremar; ABR-201008147.R3; Fox Township, Sullivan County, Pa.; Consumptive Use of Up to 7.5000 mgd; Approval Date: August 29, 2025.

28. RENEWAL—Expand Operating LLC; Pad ID: Hottenstein; ABR-201008148.R3; Forks Township, Sullivan County, Pa.; Consumptive Use of Up to 7.5000 mgd; Approval Date: August 29, 2025.

29. RENEWAL—Expand Operating LLC; Pad ID: Redmond; ABR-201007005.R3; Meshoppen Township, Wyoming County, Pa.; Consumptive Use of Up to 7.5000 mgd; Approval Date: August 29, 2025.

30. RENEWAL—Expand Operating LLC; Pad ID: Robinson NEW; ABR-201007036.R3; Orwell Township, Bradford County, Pa.; Consumptive Use of Up to 7.5000 mgd; Approval Date: August 29, 2025.

31. RENEWAL—Expand Operating LLC; Pad ID: Roundtop; ABR-201008067.R3; Colley Township, Sullivan County, Pa.; Consumptive Use of Up to 7.5000 mgd; Approval Date: August 29, 2025.

32. RENEWAL—Expand Operating LLC; Pad ID: Shingle Ridge; ABR-202007004.R1; North Branch Township, Wyoming County, Pa.; Consumptive Use of Up to 7.5000 mgd; Approval Date: August 29, 2025.

33. RENEWAL—Expand Operating LLC; Pad ID: Signore Drilling Pad #1; ABR-20100697.R3; Elkland Township, Sullivan County, Pa.; Consumptive Use of Up to 7.5000 mgd; Approval Date: August 29, 2025.

34. RENEWAL—Expand Operating LLC; Pad ID: Simpson; ABR-201007030.R3; West Burlington Township, Bradford County, Pa.; Consumptive Use of Up to 7.5000 mgd; Approval Date: August 29, 2025.

35. RENEWAL—Expand Operating LLC; Pad ID: Slumber Valley; ABR-201008015.R3; Meshoppen Township, Wyoming County, Pa.; Consumptive Use of Up to 7.5000 mgd; Approval Date: August 29, 2025.

36. RENEWAL—Expand Operating LLC; Pad ID: Stalford; ABR-20100617.R3; Wyalusing Township, Bradford County, Pa.; Consumptive Use of Up to 7.5000 mgd; Approval Date: August 29, 2025.

37. RENEWAL—Expand Operating LLC; Pad ID: Tanner & Hana; ABR-202007003.R1; Wyalusing Township, Bradford County, Pa.; Consumptive Use of Up to 7.5000 mgd; Approval Date: August 29, 2025.

38. RENEWAL—Expand Operating LLC; Pad ID: Towner; ABR-20100638.R3; Rome Township, Bradford County, Pa.; Consumptive Use of Up to 7.5000 mgd; Approval Date: August 29, 2025.

39. RENEWAL—Repsol Oil & Gas USA, LLC; Pad ID: SCHUCKER (03 006) A; ABR-20100654.R3; Columbia Township, Bradford County, Pa.; Consumptive Use of Up to 6.0000 mgd; Approval Date: August 29, 2025.

40. RENEWAL—S.T.L. Resources, LLC; Pad ID: Simonetti 817 (rev); ABR-20100545.R3; Gaines Township, Tioga County, Pa.; Consumptive Use of Up to 4.9900 mgd; Approval Date: August 29, 2025.

(Authority: Pub. L. 91-575, 84 Stat. 1509 et seq., 18 CFR parts 806 and 808.)

Dated: September 10, 2025.
Jason E. Oyler,
General Counsel and Secretary to the Commission.

[FR Doc. 2025-17668 Filed 9-11-25; 8:45 am]

BILLING CODE 7040-01-P